DEPARTMENT OF AGRICULTURE

Commodity Credit Corporation

Farm Service Agency

[Docket ID FSA-2021-0006]

Information Collection Request; Assignment of Payment; Joint Payment Authorization; and Request for Waiver

AGENCY: Commodity Credit Corporation and Farm Service Agency, USDA.

ACTION: Notice; request for comments.

SUMMARY: In accordance with the Paperwork Reduction Act (PRA) of 1995, the Commodity Credit Corporation (CCC), and Farm Service Agency (FSA) are requesting comments from all interested individuals and organizations on a revision and an extension of a currently approved information collection.

DATES: We will consider comments that we receive by August 2, 2021.

ADDRESSES: We invite you to submit comments on this notice. You may submit comments, identified by Docket ID: FSA-2021-0006, by any of the following methods:

• Federal eRulemaking Portal: Go to http://www.regulations.gov. Follow the online instructions for submitting comments.

• Mail, Hand Delivery, or Courier: Yanira Sanabria, Financial Specialist, USDA/FSA/FMD, STOP 0581, Patriot Plaza III, 355 E Street SW, Washington, DC 20024-0581.

You may also send comments to the Desk Officer for Agriculture, Office of Information and Regulatory Affairs, Office of Management and Budget, Washington, DC 20503.

Copies of the information collection may be requested by contacting Yanira Sanabria at the above address.

FOR FURTHER INFORMATION CONTACT: For specific questions related to collection activities, Yanira Sanabria, (202) 772-6032; email: yanira.sanabria@usda.gov. Persons with disabilities who require alternative mean for communication should contact the USDA's TARGET Center at (202)720-2600 (Voice).

SUPPLEMENTARY INFORMATION:

Title: Assignment and Joint Payment Elections.

Forms: CCC-36, “Assignment of Payment;” CCC-37, “Joint Payment Authorization;” CCC-251, “Notice of Assignment;” CCC-252, “Instrument of Assignment;” and CCC-40, “Request for FSA and NRCS Payments of Federal Benefits by Check (Request for Waiver).”

OMB Control Number: 0560-0183.

Expiration Date of Approval: August 31, 2021.

Type of Request: Revision and extension of a currently approved information collection request.

Abstract: FSA and CCC are requesting an extension with a revision of the currently approved information. Section 8(g) of the Soil Conservation and Domestic Allotment Act (16 U.S.C. 590h(g)) authorizes producers to assign FSA conservation program payments in accordance with regulations issued by the Secretary. The Assignment of Payments regulation as specified in 7 CFR part 1404 requires that any such assignment be signed by both the assignor and the assignee. The Agricultural Act of 1949, as amended, extends that authority to CCC programs, including rice, feed grains, cotton, and wheat. There are no regulations governing joint payments, but this service is offered as a result of public requests for the type of payment option. The Natural Conservation Service (NRCS) is also using the forms but most NRCS programs are exempt from the PRA.

Customer (Assignors) may use form CCC-36—Assignment of Payment to assign payments under various CCC, FSA, or NRCS programs. Customers may submit a completed CCC-36 to any FSA and NRCS County Office to be entered into the Financial Services application or the NRCS ProTracts web application. County Office data entry requires a second user for verification. The second user may be located in the same County Office or another Office. When there is no second user available, an employee from another County Office may perform this action by submitting a faxed copy of the form.

Customers may use the form CCC-40, Request for FSA and NRCS Payments of Federal Benefits by Check to invoke a hardship waiver payment. In accordance with Treasury Regulation 31 CFR 208, Payments by electronic funds transfer (EFT) are not required for anyone over the age of 90 born prior to May 1, 1921. The hardship waiver request can currently be submitted either in person or by phone call to the local county FSA and NRCS office by entering the waiver request in the Financial Service application for the following reasons: Geographic Barrier or Mental Impairment.

The differences in the forms are that FSA and NRCS use a tax identification number instead of a social security number. Most NRCS programs and some FSA programs are exempt from the Paperwork Reduction Act.

The number of respondents increased by 573,949, and the burden hours also increased by 95,704 likely due to increased producers or farmers participating in several programs such as Coronavirus Food Assistance Program (CFAP), Wildfires and Hurricanes Indemnity Program and other FSA programs.

For the following estimated total annual burden on respondents, the formula used to calculate the total burden hours is the estimated average time per response multiplied by the estimated total annual responses.

Estimate of Respondent Burden: Public reporting burden for collecting information under this notice is estimated to average 0.1667 hour per response, including the time for reviewing instructions, searching existing data sources, gathering and maintaining the data needed, and completing and reviewing the collections of information.

Type of Respondents: Producers participating in FSA, CCC, and NRCS programs.

Estimated Number of Respondents: 700,491.

Estimated Average Number of Responses per Respondent: 1.

Estimated Total Annual Responses: 700,491.

Estimated Average Time per Response: 0.1667.

Estimated Total Annual Burden on Respondents: 116,687 hours.

We are requesting comments on all aspects of this information collection to help FSA:

(1) Evaluate whether the proposed collection of information is necessary for the proper performance of the functions of the agency, including whether the information will have practical utility;

(2) Evaluate the accuracy of the agency's estimate of burden of the collection of information including the validity of the methodology and assumptions used;

(3) Evaluate the quality, ability and clarity of the information technology; and

(4) Minimize the burden of the information collection on those who respond through the use of appropriate automated, electronic, mechanical, or other technological collection techniques or other forms of information technology.

All comments received in response to this notice, including names and addresses when provided, will be made a matter of public record. Comments will be summarized and included in the submission for Office of Management and Budget approval.

Zach Ducheneaux,
Administrator, Farm Service Agency.
Robert Stephenson,
Executive Vice President, Commodity Credit Corporation.

[FR Doc. 2021-11412 Filed 5-28-21; 8:45 am]

BILLING CODE 3410-05-P